ENVIRONMENTAL PROTECTION AGENCY

[ER-FRL-9037-4]

Environmental Impact Statements; Notice of Availability

Responsible Agency: Office of Federal Activities, General Information (202) 564-7156 or http://www2.epa.gov/nepa.

Weekly receipt of Environmental Impact Statements

Filed 01/22/2018 Through 01/26/2018

Pursuant to 40 CFR 1506.9.

Notice

Section 309(a) of the Clean Air Act requires that EPA make public its comments on EISs issued by other Federal agencies. EPA's comment letters on EISs are available at: https://cdxnodengn.epa.gov/cdx-nepa-public/actiom/eis/search.

EIS No. 20180009, Final, FHWA, CO, U.S. 50 Corridor East Tier 1 Final Environmental Impact Statement and Record of Decision. Under MAP-21, Section 1319, FHW has issued a single FEIS and ROD. Therefore, the 30-day wait/review period does not apply to this action, Contact: Melinda Urban 720-963-3073.

EIS No. 20180010, Final Supplement, USFS, MT, Forest Plan Supplemental EIS—Bighorn Sheep, Review Period Ends: 03/28/2018, Contact: Jan Bowey 406-683-3853.

Dated: January 30, 2018.
Kelly Knight,
Director, NEPA Compliance Division, Office of Federal Activities.

[FR Doc. 2018-02131 Filed 2-1-18; 8:45 am]

BILLING CODE 6560-50-P